DEPARTMENT OF THE INTERIOR

Bureau of Land Management

[BLM_HQ_FRN_MO4500170575]

Public Meeting for the Missouri Basin Resource Advisory Council

AGENCY: Bureau of Land Management, Interior.

ACTION: Notice of public meeting.

SUMMARY: In accordance with the Federal Land Policy and Management Act and the Federal Advisory Committee Act of 1972, the U.S. Department of the Interior, Bureau of Land Management's (BLM) Missouri Basin Resource Advisory Council (RAC) will meet as follows.

DATES: The Missouri Basin RAC will meet on June 20, 2023, from 10 a.m. to 4 p.m. Mountain Time (MT) and on June 21, 2023, from 8 a.m. to 1 p.m. MT.

ADDRESSES: The meeting will take place online via Zoom. The meeting sign-in information, agenda, and public comment period times will be announced in a local news release. Written comments to the RAC can be emailed in advance to the individual listed in the FOR FURTHER INFORMATION CONTACT section of this notice.

FOR FURTHER INFORMATION CONTACT: Mark Jacobsen, Missouri Basin RAC Coordinator, BLM Eastern Montana/Dakotas District, 111 Garryowen Road, Miles City, MT 59301; telephone: (406) 233-2831; email: mjacobse@blm.gov. Individuals in the United States who are deaf, deafblind, hard of hearing, or have a speech disability may dial 711 (TTY, TDD, or TeleBraille) to access telecommunications relay services for contacting Mr. Flanigan. Individuals outside the United States should use the relay services offered within their country to make international calls to the point-of-contact in the United States.

SUPPLEMENTARY INFORMATION: The 15-member council advises the Secretary of the Interior, through the BLM, on a variety of planning and management issues associated with public land management in Central and Eastern Montana, and North and South Dakota. At this meeting, agenda topics will include the selection of a new chair, North-Central and Eastern Montana/Dakotas District reports, Field Office manager reports, a public comment period, the North Dakota Resource Management Plan, and other topics and items of interest the council may wish to cover. All meetings are open to the public, and the public may address or present written comments to the RAC. The RAC meeting will have time allocated for hearing public comments on both meeting dates. Depending on the number of persons wishing to comment and time available, the time for individual oral comments may be limited.

Please make requests in advance for sign language interpreter services, assistive listening devices, or other reasonable accommodations. We ask that you contact the person listed in the FOR FURTHER INFORMATION CONTACT section of this notice at least 7 business days prior to the meeting to give the BLM sufficient time to process your request. All reasonable accommodation requests are managed on a case-by-case basis.

Before including your address, phone number, email address, or other personal identifying information in your comments, please be aware that your entire comment, including your personal identifying information, may be made publicly available at any time. While you can ask us in your comment to withhold your personal identifying information from public review, we cannot guarantee that we will be able to do so.

(Authority: 43 CFR 1784.4-2)

Scott S. Haight,
Eastern Montana/Dakotas District Manager.

[FR Doc. 2023-09986 Filed 5-10-23; 8:45 am]

BILLING CODE 4331-20-P